DEPARTMENT OF HEALTH AND HUMAN SERVICES

Administration for Children and Families

Submission for OMB Review; Comment Request

Title: Impact Studies of the Health Professions Opportunity Grants.

OMB No.: 0970-0394.

The Administration for Children and Families (ACF), U.S. Department of Health and Human Services (HHS) is proposing data collection activities as part of the Impact Studies of the Health Professions Opportunity Grants (HPOG-Impact). The goal of HPOG-Impact is to evaluate the effectiveness of approaches HPOG grantees use to provide Temporary Assistance for Needy Families (TANF) recipients and other low-income individuals with opportunities for education, training and advancement within the health care field. HPOG-Impact also is intended to evaluate variation in participant impact that may be attributable to different HPOG program components and models. The impact study design is a classic experiment in which eligible applicants for HPOG program services will be randomly assigned to a treatment group offered participation in HPOG and a control group not offered the opportunity to enroll in HPOG.

To achieve these goals, it is necessary to collect data about both treatment group and control group sample members before enrollment into the HPOG program. The information collection proposed will supplement internet-based collection of information from HPOG grantees on baseline characteristics of eligible program participants. This 30-day notice describes the universe of data collection efforts for this study. However, this information collection request is limited to the Supplemental Baseline Questions (for program participants and control group members) described under 1 below. As part of this submission, we are also requesting permission to waive 60-day notices necessary for future and follow-up surveys (described under 2-6 below).

The universe of information collection proposed for HPOG-Impact includes:

1. Supplemental Baseline Questions (for program participants and control group members). This survey will augment data already colleated about eligible program applicants through the Performance Reporting System (PRS) that currently is being used in the Implementation, Systems and Outcome Evaluation of the TANF and Low-Income Health Profession Opportunity Grants (OMB Control No. 0970-0394). To reduce burden to the extent possible, HPOG-Impact will use data from the PRS. The 15-minute “supplemental survey” will collect any additional information necessary for HPOG-Impact and will be administered prior to random assignment.

2. 12-Month Follow-up Survey. This survey will be administered approximately 12 months after baseline to both treatment and control group members. It will collect data about program experiences and outcomes of interest, including certifications and educational achievements, job placement, wages, and benefits. It also will collect some information about participants' tenure and experience in HPOG programming.

3. Grantee Survey. This survey will be administered to all HPOG grantees participating in HPOG-Impact, will collect information on characteristics of HPOG programs and will be used to classify grantees and to identifying distinct service delivery models.

4. Case studies of selected HPOG grantees. Through site visits, site research staff will also use structured observations and staff and management interviews to validate the results of the Grantee Survey.

5. 30-3-Month Follow-up Survey. This survey will be administered approximately 30 months after baseline to both treatment and control group members. It will collect updated information about outcomes of interest, including certifications and educational achievements, job placement, wages, and benefits.

6. Follow up data collection on children of study participants. Data on child outcomes that may be associated with parental impacts tied to program participation and components will be collected at follow-up. Data collection will vary depending on children's ages.

Respondents: Individuals enrolled in HPOG interventions; control group members.

Annual Burden Estimates
Instrument | Annual number of respondents | Number of responses per respondent | Average burden hours per response | Total burden hours
HPOG Performance Reporting System (PRS) (previously approved). | 32 | 2 | 31.2 | 1,997
Supplemental Baseline Questions (program participants and control group members) | 5,125 | 1 | 0.25 | 1,281
Supplemental Baseline Questions (grantees) | 32 | 160 | 0.25 | 1,280

Estimated Total Annual Burden Hours: 4,558.

Additional Information:

Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov

OMB Comment:

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Email: OIRA SUBMISSION@OMB.E0P.GOV, Attn: Desk Officer for the Administration, for Children and Families.

Steven M. Hanmer,
OPRE Reports Clearance Officer.

[FR Doc. 2012-14656 Filed 6-15-12; 8:45 am]

BILLING CODE 4184-09-M